CORPORATION FOR NATIONAL AND COMMUNITY SERVICE

Agency Information Collection Activities; Submission to the Office of Management and Budget for Review and Approval; Comment Request; Financial Management Survey

AGENCY: Corporation for National and Community Service.

ACTION: Notice.

SUMMARY: The Corporation for National and Community Service (CNCS) has submitted a public information collection request (ICR) entitled Financial Management Survey for review and approval in accordance with the Paperwork Reduction Act of 1995.

DATES: Comments may be submitted, identified by the title of the information collection activity, by March 15, 2018.

ADDRESSES: Comments may be submitted, identified by the title of the information collection activity, to the Office of Information and Regulatory Affairs, Attn: Ms. Sharon Mar, OMB Desk Officer for the Corporation for National and Community Service, by any of the following two methods within 30 days from February 13, 2018:

(1) By fax to: 202-395-6974, Attention: Ms. Sharon Mar, OMB Desk Officer for the Corporation for National and Community Service; or

(2) By email to: smar@omb.eop.gov.

FOR FURTHER INFORMATION CONTACT: Douglas Godesky, Senior Grants Officer, at 202-606-6967 or email to dgodesky@cns.gov. Individuals who use a telecommunications device for the deaf (TTY-TDD) may call 1-800-833-3722 between 8:00 a.m. and 8:00 p.m. Eastern Time, Monday through Friday.

SUPPLEMENTARY INFORMATION: OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 19, 2017 at Vol. 82, No. 137, Page 33072. This comment period ended September 18, 2017. No public comments were received from this Notice.

Description: The Financial Management Survey collects information about the capacity of organizations to manage federal grant funds. Information from the survey is used to assess an organization's structure and capacity-building needs and identify any appropriate technical assistance and/or resources to strengthen federal grant management and compliance operations. CNCS seeks to renew the current information collection. The information collection will otherwise be used in the same manner as the existing application. CNCS also seeks to continue using the current application until the revised application is approved by OMB. The current application expired on September 30, 2017.

Type of Review: Renewal.

Agency: Corporation for National and Community Service.

Title: Financial Management Survey.

OMB Number: 3045-0102.

Agency Number: None.

Affected Public: Non-profit Organizations, State, Local and Tribal Governments that are first-time recipients of CNCS grant funds, or renewing their ability to receive CNCS grant funds.

Total Respondents: 200.

Frequency: Once.

Average Time per Response: Averages 2.00 hours.

Estimated Total Burden Hours: 400 hours.

Total Burden Cost (capital/startup): None.

Total Burden Cost (operating/maintenance): None.

Dated: February 2, 2018.
Joseph Liciardello,
Acting Chief Grants Officer.

[FR Doc. 2018-02880 Filed 2-12-18; 8:45 am]

BILLING CODE 6050-28-P